DEPARTMENT OF THE TREASURY

Office of the Secretary

31 CFR Parts 1 and 323

Privacy Act of 1974; Implementation

AGENCY: Bureau of the Public Debt, Treasury.

ACTION: Final rule.

SUMMARY: In accordance with the requirements of the Privacy Act of 1974, as amended, the Department of the Treasury exempts a Bureau of the Public Debt system of records entitled “Treasury/BPD.009—U.S. Treasury Securities Fraud Information System” from certain provisions of the Privacy Act.

EFFECTIVE DATE: December 5, 2003.

FOR FURTHER INFORMATION CONTACT: For information about Public Debt's anti-money laundering and fraud suppression program, contact the Fraud Inquiry Line at 304-480-8555. The phone line is administered by the Office of the Chief Counsel, Bureau of the Public Debt. For information about this document, contact the Office of the Chief Counsel, Bureau of the Public Debt, at 304-480-8692 or by e-mail at chcounsel@bpd.treas.gov. Copies of this rule can be downloaded from the public Web site at http://www.publicdebt.treas.gov.

SUPPLEMENTARY INFORMATION: The Department of the Treasury published a system notice for “Treasury/BPD.009-U.S. Treasury Securities Fraud Information System” in its entirety at 68 FR 34486-34489 (June 9, 2003). We did not receive any comments on the notice. The system of records became effective July 21, 2003.

We issued a proposed rule exempting the system of records from certain provisions of the Privacy Act of 1974, as amended, at 68 FR 36955-36957 (June 20, 2003). Under 5 U.S.C. 552a(k)(2), the head of an agency may promulgate rules to exempt any system of records within the agency from certain provisions of the Privacy Act of 1974, as amended, if the system is investigatory material compiled for law enforcement purposes. The system of records contains investigatory material compiled for law enforcement purposes.

The provisions of the Privacy Act from which exemption is claimed pursuant to 5 U.S.C. 552a(k)(2) are: 5 U.S.C. 552a(c)(3) (Accounting of certain disclosures available to the individual), (d)(1)-(4) (Access to records), (e)(1) (Maintenance of information to accomplish purposes authorized by statute or executive order only), (e)(4)(G) (Publication of procedures for notification), (e)(4)(H) (Publication of procedures for access and contest), (e)(4)(I) (Publication of sources of records), and (f) (Rules for notification, access and contest) to the extent that information in the system is subject to exemption pursuant to 5 U.S.C. 552a(k)(2) as material compiled for law enforcement purposes.

In an unrelated change, the proposed rule clarified the privacy interests afforded to close survivors of a deceased securities holder. Public Debt protected the privacy interests of securities holders by regulation long before the passage of the Privacy Act of 1974. We proposed to amend part 323 to comport with exemption 6 of the Freedom of Information Act which permits us to withhold all information about individuals in “personnel and medical files and similar files” when the disclosure of such information “would constitute a clearly unwarranted invasion of personal privacy.” Although the right to privacy of a deceased securities holder extinguishes upon death, the exemption will protect the deceased person's family-related privacy interests in certain cases.

The proposed rule requested that public comments be sent to the Disclosure Officer, Administrative Resource Center, Bureau of the Public Debt, no later than July 21, 2003. We did not receive comments on the proposed rule. Accordingly, the Department of the Treasury is hereby giving notice that the system of records entitled “Treasury/BPD.009-U.S. Treasury Securities Fraud Information System.”, is exempt from certain provisions of the Privacy Act.

As required by Executive Order 12866, it has been determined that this final rule is not a “significant regulatory action,” and therefore, does not require a Regulatory Impact Analysis.

The regulation will not have a substantial direct effect on the States, on the relationship between the Federal Government and the States, or on the distribution of power and responsibilities among the various levels of government. Therefore, it is determined that this final rule does not have federalism implications under Executive Order 13132.

Pursuant to the requirements of the Regulatory Flexibility Act, 5 U.S.C. 601-612, the Department of the Treasury and Public Debt certify that these regulations will not significantly affect a substantial number of small entities. The final rule imposes no duties or obligations on small entities.

In accordance with the provisions of the Paperwork Reduction Act of 1995, the Department of the Treasury and Public Debt have determined that this final rule would not impose new record keeping, application, reporting, or other types of information collection requirements.

List of Subjects

31 CFR Part 1

Privacy.

31 CFR Part 323

Freedom of Information Act, Privacy.

Accordingly, for the reasons stated in the preamble, 31 CFR part 1, is amended as follows:

1. The authority citation for part 1 continues to read as follows:

Authority: 5 U.S.C. 301 and 31 U.S.C. 321. Subpart A also issued under 5 U.S.C. 552, as amended. Subpart C also issued under 5 U.S.C. 552a.

PART 1—[AMENDED]

Subpart C—Privacy Act

2. In Subpart C, §1.36, paragraph (g)(1)(x) is amended by adding the following new table below the heading BUREAU OF THE PUBLIC DEBT:

Number | System name
BPD.009 | U.S. Treasury Securities Fraud Information System.

PART 323—[AMENDED]

3. The authority citation for part 323 continues to read as follows:

Authority: 80 Stat. 379; sec. 3., 60 Stat. 238, as amended; 5 U.S.C. 301, 552.

4. Revise § 323.2(b) to read as follows:

§ 323.2 Rules Governing Availability of Information.

* * * * *

(b) Limitations on the availability of records relating to securities. Records relating to the purchase, ownership of, and transactions in Treasury securities or other securities handled by the Bureau of the Public Debt for government agencies or wholly or partially Government-owned corporations will ordinarily be disclosed only to the owners of such securities, their executors, administrators or other legal representatives or to their survivors or to investigative and certain other agencies of the Federal and State governments, to trustees in bankruptcy, receivers of insolvents' estates or where a proper order has been entered requesting disclosure of information to Federal and State courts. These records are confidential because they relate to private financial affairs of the owners under this Part. In addition, the information falls within the category of “personnel and medical files and similar files the disclosure of which would constitute a clearly unwarranted invasion of personal privacy” under the Freedom of Information Act (FOIA), 5 U.S.C. 552(b)(6). FOIA Exemption (b)(6) protects the privacy of living persons who own securities as well as the close survivors of deceased owners. Privacy interests, in the sense of the right to control, use, or disclose information about oneself, cease at death. However, the exemption protects the deceased person's family-related privacy interests that survive death where disclosure would cause embarrassment, pain, grief, or disrupt the peace of mind, of the surviving family. The Bureau of the Public Debt will determine, under FOIA exemption (b)(6), whether disclosure of the records is in the public interest by balancing the surviving family members' privacy interest against the public's right to know the information.

Dated: November 18, 2003.
Teresa Mullett Ressel,
Assistant Secretary for Management and Chief Financial Officer.

[FR Doc. 03-30241 Filed 12-4-03; 8:45 am]

BILLING CODE 4810-39-P